DEPARTMENT OF ENERGY

Federal Energy Regulatory Commission

[Docket Nos. CP15-550-000; CP15-551-001]

Notice of Revised Schedule for Environmental Review of the Calcasieu Pass Project: Venture Global Calcasieu Pass, LLC; Transcameron Pipeline, LLC

May 18, 2018.

This notice identifies the Federal Energy Regulatory Commission staff's revised schedule for the completion of the environmental impact statement (EIS) for Venture Global Calcasieu Pass, LLC and TransCameron Pipeline, LLC's Calcasieu Pass Project. The first notice of schedule, issued on November 29, 2017, identified July 3, 2018 as the final EIS issuance date. Due to staff's recent request for supplemental engineering information, staff has revised the schedule for issuance of the final EIS based on an issuance of the draft EIS in June 2018. The forecasted schedule for both the draft and final EIS is based upon Global Calcasieu Pass, LLC and TransCameron Pipeline, LLC providing complete and timely responses to any future data requests. In addition, the schedule assumes that the cooperating agencies will provide input on their areas of responsibility on a timely basis.

Schedule for Environmental Review

Issuance of Notice of Availability of the final EIS—October 26, 2018

90-Day Federal Authorization Decision Deadline—January 24, 2019

If a schedule change becomes necessary, an additional notice will be provided so that the relevant agencies are kept informed of the project's progress.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's

Office of External Affairs at (866) 208-FERC or on the FERC website (www.ferc.gov). Using the “eLibrary” link, select “General Search” from the eLibrary menu, enter the selected date range and “Docket Number” excluding the last three digits (i.e., CP15-550 or CP15-551), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Kimberly D. Bose,
Secretary.

[FR Doc. 2018-11167 Filed 5-23-18; 8:45 am]

BILLING CODE 6717-01-P